DEPARTMENT OF JUSTICE

Notice of Lodging of Settlement Agreement Under the Comprehensive Environmental Response, Compensation, and Liability Act

Notice is hereby given that on February 16, 2012, a proposed Settlement Agreement in In re Canal Corp., et al., Case No. 08-36642-DOT, was lodged with the United States Bankruptcy Court for the Eastern District of Virginia. The Settlement Agreement resolves a proof of claim filed by the United States, on behalf of the Environmental Protection Agency (“EPA”) and Department of the Interior (“DOI”), against Canal Corporation for response costs and natural resource damages under the Comprehensive Environmental Response, Compensation, and Liability Act, 42 U.S.C. 9601-9675, with respect to the Peck Iron and Metal Site in Portsmouth, Virginia. Under the Settlement Agreement, EPA will receive an allowed general unsecured claim in the amount of $4,466,402, and DOI will receive an allowed general unsecured claim in the amount of $3,889.

The Department of Justice will receive, for a period of thirty days from the date of this publication, comments relating to the Settlement Agreement. To be considered, comments must be received by the Department of Justice by the date that is thirty days from the date of this publication. Comments should be addressed to the Assistant Attorney General, Environment and Natural Resources Division, and either emailed to pubcomment-ees.enrd@usdoj.gov or mailed to P.O. Box 7611, U.S. Department of Justice, Washington, DC 20044-7611, and should refer to In re Canal Corp., et al., D.J. Ref. 90-11-2-1045/8. Commenters may request an opportunity for a public meeting in the affected area, in accordance with Section 7003(d) of the Resource Conservation and Recovery Act, 42 U.S.C. 6973(d).

During the public comment period, the Settlement Agreement may be examined on the following Department of Justice Web site, http://www.usdoj.gov/enrd/Consent_Decrees.html. Copies of the Settlement Agreement may also be obtained by mail from the Consent Decree Library, P.O. Box 7611, U.S. Department of Justice, Washington, DC 20044-7611, or by faxing or emailing a request to “Consent Decree Copy” (EESCDCopy.ENRD@usdoj.gov), fax no. (202) 514-0097, phone confirmation number (202) 514-5271. In requesting a copy from the Consent Decree Library, please enclose a check in the amount of $3.25 (25 cents per page reproduction cost) payable to the U.S. Treasury or, if by email or fax, please forward a check in that amount to the Consent Decree Library at the address given above.

Maureen Katz,
Assistant Section Chief, Environmental Enforcement Section, Environment and Natural Resources Division.

[FR Doc. 2012-4593 Filed 2-27-12; 8:45 am]

BILLING CODE 4410-15-P